DEPARTMENT OF STATE

[Public Notice 11397]

Determination Pursuant to Section 451 of the Foreign Assistance Act for the Use of Funds To Support South Sudan

Pursuant to section 451 of the Foreign Assistance Act of 1961 (the “Act”) (22 U.S.C. 2261), section 1-100(a)(1) of Executive Order 12163 and Delegation of Authority 245-2, I hereby authorize, notwithstanding any other provision of law, the use of up to $3,500,000 made available to carry out provisions of the Act (other than the provisions of chapter 1 of part I of the Act) to provide assistance authorized by part I of the Act to support countries that participate in the reconstituted Joint Monitoring and Evaluation Commission (RJMEC) and the Ceasefire and Transitional Security Arrangements Monitoring and Verification Mechanism (CTSAMVM) in South Sudan, as well as support to improve oversight of private security contractors working with the United Nations Mission in South Sudan (UNMISS).

This Determination and the accompanying Memorandum of Justification shall be promptly reported to the Congress. This Determination shall be published in the Federal Register.

Dated: March 15, 2021.
Daniel B. Smith,
Acting Deputy Secretary of State.

[FR Doc. 2021-07202 Filed 4-7-21; 8:45 am]

BILLING CODE 4710-25-P